ENVIRONMENTAL PROTECTION AGENCY

[EPA-HQ-OPPT-2016-0654; FRL-10014-49-OMS]

Information Collection Request Submitted to OMB for Review and Approval; Comment Request; Procedures for Requesting a Chemical Risk Evaluation Under TSCA

AGENCY: Environmental Protection Agency (EPA).

ACTION: Notice.

SUMMARY: The Environmental Protection Agency (EPA) has submitted an information collection request (ICR), Procedures for Requesting a Chemical Risk Evaluation under TSCA (EPA ICR Number 2559.03, OMB Control Number 2070-0202) to the Office of Management and Budget (OMB) for review and approval in accordance with the Paperwork Reduction Act. This is a proposed extension of the ICR, which is currently approved through September 30, 2020. Public comments were previously requested via the Federal Register on January 28, 2020 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 29, 2020.

ADDRESSES: Submit your comments to EPA, referencing Docket ID No. EPA-HQ-OPPT-2016-0654, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Susanna Blair, Office of Pollution Prevention and Toxics, Environmental Protection Agency, 1200 Pennsylvania Ave. NW, Washington, DC 20460; telephone number: (202) 564-4371; email address: blair.susanna@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information collection activities covered by this ICR renewal are those carried out by a chemical manufacturer in requesting a specific chemical risk evaluation under the Toxic Substance Control Act (TSCA) be conducted by EPA. EPA established the process for conducting risk evaluations under TSCA. Chemicals that will undergo this evaluation include chemicals the Agency has prioritized, as well as chemicals for which EPA has granted requests made by manufacturers to have the chemicals evaluated under EPA's risk evaluation process. EPA has established criteria and information chemical manufacturers must provide for EPA to consider a chemical substance for risk evaluation. This information is necessary in order for EPA to review information covered by chemical manufacturers and determine if the chemical substance is suitable for risk evaluation.

Form Numbers: None.

Respondents/affected entities: Persons that manufacture chemical substances and request a chemical be considered for risk evaluation by EPA.

Respondent's obligation to respond: Voluntary (15 U.S.C. 2605(b)(4)).

Estimated number of respondents: 5.

Frequency of response: On occasion.

Total estimated burden: 419 hours (per year). Burden is defined at 5 CFR 1320.03(b).

Total estimated cost: $283,570 (per year), which includes $0 annualized capital or operation & maintenance costs.

Changes in the estimates: There is no change in hour or cost burden as compared with what is currently approved by OMB. There is an increase of $709 in the total estimated labor costs, which reflects the increase in wage rates since the initial ICR.

Courtney Kerwin,
Director, Regulatory Support Division.

[FR Doc. 2020-21528 Filed 9-28-20; 8:45 am]

BILLING CODE 6560-50-P